ENVIRONMENTAL PROTECTION AGENCY

[OAR-2004-0065, FRL-7655-9]

Agency Information Collection Activities: Proposed Collection; Comment Request; Application Requirements for the Approval and Delegation of Federal Air Toxics Programs to State, Territorial, Local, and Tribal Agencies, EPA ICR Number 1643.05, OMB Control Number 2060-0264

AGENCY: Environmental Protection Agency.

ACTION: Notice.

SUMMARY: In compliance with the Paperwork Reduction Act (44 U.S.C. 3501 et seq.), this document announces that EPA is planning to submit a continuing Information Collection Request (ICR) to the Office of Management and Budget (OMB). This is a request to renew an existing approved collection. This ICR is scheduled to expire on June 30, 2004. Before submitting the ICR to OMB for review and approval, EPA is soliciting comments on specific aspects of the proposed information collection as described below.

DATES: Comments must be submitted on or before June 29, 2004.

ADDRESSES: Submit your comments, referencing docket ID number OAR-2004-0065, to EPA online using EDOCKET (our preferred method), by e-mail to a-and-r-docket@epa.gov, or by mail to: EPA Docket Center, Environmental Protection Agency, Air and Radiation Docket and Information Center, Mail Code 6102T, 1200 Pennsylvania Ave., NW., Washington, DC 20460.

FOR FURTHER INFORMATION CONTACT: Ms. Maria Noell, Office of Air Quality Planning and Standards, U.S. Environmental Protection Agency, Mail Code C504-04, Research Triangle Park, NC 27711; telephone number: (919) 541-5607; fax number: (919) 541-3470; e-mail address: noell.maria@epa.gov.

SUPPLEMENTARY INFORMATION: EPA has established a public docket for this ICR under Docket ID number OAR-2004-0065, which is available for public viewing at the Air and Radiation Docket in the EPA Docket Center (EPA/DC), EPA West, Room B102, 1301 Constitution Ave., NW., Washington, DC. The EPA Docket Center Public Reading Room is open from 8:30 a.m. to 4:30 p.m., Monday through Friday, excluding legal holidays. The telephone number for the Reading Room is (202) 566-1744, and the telephone number for the Air and Radiation Docket is (202) 566-1742. An electronic version of the public docket is available through EPA Dockets (EDOCKET) at http://www.epa.gov/edocket. Use EDOCKET to obtain a copy of the draft collection of information, submit or view public comments, access the index listing of the contents of the public docket, and to access those documents in the public docket that are available electronically. Once in the system, select “search,” then key in the docket ID number identified above.

Any comments related to this ICR should be submitted to EPA within 60 days of this notice. EPA's policy is that public comments, whether submitted electronically or in paper, will be made available for public viewing in EDOCKET as EPA receives them and without change, unless the comment contains copyrighted material, CBI, or other information whose public disclosure is restricted by statute. When EPA identifies a comment containing copyrighted material, EPA will provide a reference to that material in the version of the comment that is placed in EDOCKET. The entire printed comment, including the copyrighted material, will be available in the public docket. Although identified as an item in the official docket, information claimed as CBI, or whose disclosure is otherwise restricted by statute, is not included in the official public docket, and will not be available for public viewing in EDOCKET. For further information about the electronic docket, see EPA's Federal Register notice describing the electronic docket at 67 FR 38102 (May 31, 2002), or go to http://www.epa.gov./edocket.

Affected entities: Entities potentially affected by this action are State, territorial, local, or tribal agencies (S/L/Ts) that are seeking to obtain delegation of Federal section 112 standards developed by EPA under the Clean Air Act (CAA).

Title: Application Requirements for the Approval and Delegation of Federal Air Toxics Programs to State, territorial, local, and tribal Agencies.

Abstract: This information collection is a voluntary application from S/L/Ts for delegation of regulations developed under section 112 of the Clean Air Act (CAA). In the time frame for this submittal, we, the EPA, estimate that the majority of the delegated regulations will be those developed under section 112(d) of the CAA. The procedures and requirements that the S/L/Ts will use to request the delegations are codified as 40 CFR 63, subpart E, in accordance with section 112(l) of the CAA.

The subpart E regulations contain the following five options for delegation:

• Straight delegation;

• Rule adjustment;

• Rule substitution;

• Equivalency by permit;

• State program approval.

Straight delegation is the option where the respondents, S/L/Ts, choose to accept delegation of a section 112 provision and to implement and enforce the provision as written. The S/L/Ts may use the rule adjustment option when they want to substitute a rule and/or requirement that is unequivocally no less stringent than the otherwise applicable section 112 standard, such as a part 63 national emission standards for hazardous air pollutants (NESHAP). They may use rule substitution when they wish to substitute individual rules and/or requirements in place of the otherwise applicable section 112 standard. They may use the equivalency by permit option when they wish to substitute operating permit terms and conditions for a section 112 standard; this option is only applicable to a limited number of sources using title V permit terms and conditions. Finally, S/L/Ts may use the State program approval option if they want to substitute their overall air toxics program for the Federal air toxics program; i.e., the section 112(d) standards.

The delegation options vary in the types of changes allowed, the level of demonstration required, and the amount of time and process needed to implement them. Respondents must submit any packages requesting delegation to their EPA Regional office. We must then review and approve, partially approve, or disapprove the request based on the subpart E approval criteria. The request may only take effect after our approval (or partial approval of a subset of the request), public notice, and, in some cases, public comment.

The information is needed and used to determine if the entity submitting an application has met the criteria established in the subpart E rule. This information is necessary for the Administrator to determine the acceptability of approving the S/L/T's rules, requirements, or programs in lieu of the Federal section 112 rules or programs. The collection of information is authorized under 42 U.S.C. 7401-7671q.

All information submitted to us for which a claim of confidentiality is made will be safeguarded according to the policies set forth in title 40, chapter 1, part 2, subpart B, Confidentiality of Business Information. See 40 CFR; 41 FR 36902, September 1, 1976; amended by 43 FR 3999, September 8, 1978; 43 FR 42251, September 28, 1978; and 44 FR 17674, March 23, 1979. Even where we have determined that data received in response to an ICR is eligible for confidential treatment under 40 CFR part 2, subpart B, we may nonetheless disclose the information if it is “relevant in any proceeding” under the statute [42 U.S.C. 7414(c); 40 CFR 2.301(g)]. The information collection complies with the Privacy Act of 1974 and Office of Management and Budget Circular 108.

An agency may not conduct or sponsor, and a person is not required to respond to, a collection of information unless it displays a currently valid OMB control number. The OMB control numbers for EPA's regulations in 40 CFR are listed in 40 CFR part 9.

We would like to solicit comments to:

(i) Evaluate whether the proposed collection of information is necessary for the proper performance of the functions of the Agency, including whether the information will have practical utility;

(ii) Evaluate the accuracy of the Agency's estimate of the burden of the proposed collection of information, including the validity of the methodology and assumptions used;

(iii) Enhance the quality, utility, and clarity of the information to be collected; and

(iv) Minimize the burden of the collection of information on those who are to respond, including through the use of appropriate automated electronic, mechanical, or other technological collection techniques or other forms of information technology, e.g., permitting electronic submission of responses.

Burden Statement: The projected cost to S/L/Ts for implementing the subpart E program for the 3 years from July 1, 2004, until June 30, 2007, is approximately $2.7 million in annualized labor and document copying and mailing expenses. The overall burden is based on an assumption that 20 NESHAP developed under section 112(d) will be available for delegation in the 3-year period covered by this clearance request. We also assume that 124 S/L/Ts will request to receive this delegation using one of the five subpart E delegation options. In addition, up to 75 NESHAP are expected to be delegated by EPA Region 6 to two agencies within this time period as well. This results in an average of 1,008 responses per year and a total average annual burden of 41,577 hours. The average burden per application (e.g., request for delegation) is 41 hours, for a cost of $2,648. We expect average annual Federal costs will be 32,731 hours and $1.5 million (32 hours and $1,476 per delegation request). We anticipate that these burden estimates will change as the number of standards available for delegation are promulgated and as S/L/T programs develop to the extent they wish to request permission to substitute them for the Federal program. These changes to the burden estimate will be reflected in the ICR document.

Burden means the total time, effort, or financial resources expended by persons to generate, maintain, retain, or disclose or provide information to or for a Federal agency. This includes the time needed to review instructions; develop, acquire, install, and utilize technology and systems for the purposes of collecting, validating, and verifying information, processing and maintaining information, and disclosing and providing information; adjust the existing ways to comply with any previously applicable instructions and requirements; train personnel to be able to respond to a collection of information; search data sources; complete and review the collection of information; and transmit or otherwise disclose the information.

Dated: April 26, 2004.
Penny Lassiter,
Acting Director, Emissions Standards Division.

[FR Doc. 04-9866 Filed 4-29-04; 8:45 am]

BILLING CODE 6560-50-P